NUCLEAR REGULATORY COMMISSION

[NRC-2012-0002]

Sunshine Federal Register Notice

AGENCY HOLDING THE MEETINGS: Nuclear Regulatory Commission.

DATE: Weeks of January 23, 30, February 6, 13, 20, 27, 2012.

PLACE: Commissioners' Conference Room, 11555 Rockville Pike, Rockville, Maryland.

STATUS: Public and Closed.

Week of January 23, 2012

There are no meetings scheduled for the week of January 23, 2012.

Week of January 30, 2012—Tentative

There are no meetings scheduled for the week of January 30, 2012.

Week of February 6, 2012—Tentative

Thursday, February 9, 2012

9 a.m. Briefing on Status of Outreach and Educational Efforts with External Stakeholders Related to the Safety Culture Policy Statement (Public Meeting). (Contact: Diane Sieracki, (301) 415-3297.)

This meeting will be webcast live at the Web address— www.nrc.gov.

Week of February 13, 2012—Tentative

There are no meetings scheduled for the week of February 13, 2012.

Week of February 20, 2012—Tentative

Wednesday, February 22, 2012

9 a.m. Briefing on Fort Calhoun (Public Meeting). (Contact: Jeff Clark, (817) 860-8147.)

This meeting will be webcast live at the Web address— www.nrc.gov.

Week of February 27, 2012—Tentative

Tuesday, February 28, 2012

9:30 a.m. Briefing on the Threat Environment Assessment (Closed—Ex. 1).

* The schedule for Commission meetings is subject to change on short notice. To verify the status of meetings, call (recording)—(301) 415-1292. Contact person for more information: Rochelle Bavol, (301) 415-1651.

The NRC Commission Meeting Schedule can be found on the Internet at: http://www.nrc.gov/public-involve/public-meetings/schedule.html.

The NRC provides reasonable accommodation to individuals with disabilities where appropriate. If you need a reasonable accommodation to participate in these public meetings, or need this meeting notice or the transcript or other information from the public meetings in another format (e.g., braille, large print), please notify Bill Dosch, Chief, Work Life and Benefits Branch, at (301) 415-6200, TDD: (301) 415-2100, or by email at william.dosch@nrc.gov. Determinations on requests for reasonable accommodation will be made on a case-by-case basis.

This notice is distributed electronically to subscribers. If you no longer wish to receive it, or would like to be added to the distribution, please contact the Office of the Secretary, Washington, DC 20555, (301) 415-1969, or send an email to darlene.wright@nrc.gov.

Dated: January 19, 2012.
Rochelle C. Bavol,
Policy Coordinator, Office of the Secretary.

[FR Doc. 2012-1526 Filed 1-20-12; 4:15 pm]

BILLING CODE 7590-01-P